FEDERAL COMMUNICATIONS COMMISSION

47 CFR Part 52

[CC Docket No. 95-155; FCC 00-237]

Toll Free Service Access Codes

AGENCY: Federal Communications Commission.

ACTION: Final rule.

SUMMARY: On July 5, 2000, the Commission released a Fifth Report and Order in CC Docket No. 95-155 resolving outstanding issues related to the propriety of Database Service Management Inc. (DSMI) serving as the administrator of the toll free number database system. The Fifth Report and Order is intended to ensure the efficient, orderly, and fair allocation of toll free numbers.

EFFECTIVE DATE: September 1, 2000.

FOR FURTHER INFORMATION CONTACT: Debra Sabourin at (202) 418-2320, fax (202) 418-2345, TTY (202) 418-0484, or dsabourin@fcc.gov. The address is: Network Services Division, Common Carrier Bureau, Federal Communications Commission, The Portals, 445 12th Street, SW., Suite 6-A320, Washington, DC 20554.

SUPPLEMENTARY INFORMATION: This summarizes the Commission's Fifth Report and Order in CC Docket No. 95-155, In the Matter of Toll Free Service Access Codes, FCC 00-237, adopted June 28, 2000, and released July 5, 2000. The full text of the item is available for inspection and copying during the weekday hours of 9 a.m. to 4:30 p.m. in the Commission's Reference Center, Room CY-A257, 445 12 Street, SW., Washington, DC 20554, or copies may be purchased from the Commission's duplicating contractor, ITS, Inc., 445 12th Street, SW., Suite CY-B400, Washington, DC 20554, phone (202) 857-3800. This Report and Order contains no new or modified information collections subject to the Paperwork Reduction Act of 1995, Public Law 104-13.

Synopsis of the Report and Order

In the Fifth Report and Order in CC Docket No. 95-155, we resolve outstanding issues raised in the toll free number rulemaking proceeding related to the propriety of Database Service Management Inc. (DSMI) serving as the administrator of the toll free number database.¹ We approve the recommendation of the North American Numbering Council (NANC) that DSMI continue to serve as the administrator of the toll free number database system, referred to as the SMS/800 system, at this time. We find that DSMI is an impartial administrator under section 251(e)(1) of the Communications Act. We also direct the NANC to provide recommendations on restructuring the ownership and operation of the current system of toll free number administration within 180 days of the effective date of this Order.

¹ Note: Not published in the Federal Register. The final rule for the third report and order was published October 23, 1997 (62 FR 55179).

Ordering Clause

Pursuant to sections 1, 4(i), and 251 of the Communications Act of 1934, as amended, 47 U.S.C. 151, 154(i), and 251, that the Fifth Report and Order in CC Docket 95-155 is hereby adopted.

List of Subjects in 47 CFR Part 52

Communications common carrier, local exchange carrier, numbering, telecommunications.

Federal Communications Commission.
William F. Caton,
Deputy Secretary.

[FR Doc. 00-22433 Filed 8-31-00; 8:45 am]

BILLING CODE 6712-01-P